FEDERAL COMMUNICATIONS COMMISSION

Public Information Collections Approved by Office of Management and Budget

The Federal Communications Commission (FCC) has received Office of Management and Budget (OMB) approval for the following public information collections pursuant to the Paperwork Reduction Act of 1995, Public Law 96-511. An agency may not conduct or sponsor a collection of information unless it displays a currently valid control number. Not withstanding any other provisions of law, no person shall be subject to any penalty for failing to comply with a collection of information subject to the Paperwork Reduction Act (PRA) that does not display a valid control number. Questions concerning the OMB control numbers and expiration dates should be directed to Judy Boley, Federal Communications Commission, (202) 418-0214.

Federal Communications Commission

OMB Control No.: 3060-0939.

Expiration Date: 12/31/2000.

Title: E911—Second Memorandum Opinion and Order.

Form No.: None.

Estimated Annual Burden: 50 Burden Hours Annually, 1 hour per response; 50 .

Description: Commercial Mobile Radio Service (CMRS) carriers and Public Safety Answering Points (PSAPs) who cannot agree on the choice of Enhanced 911 transmission means and related technologies may approach the Commission to assist in reaching an accord. In order for the Commission to effectively participate in resolving differences between CMRS carriers and PSAPs, the parties will be asked to submit relevant information.

Federal Communications Commission.
Magalie Roman Salas,
Secretary.

[FR Doc. 00-15377 Filed 6-16-00; 8:45 am]

BILLING CODE 6712-01-P